SECURITIES AND EXCHANGE COMMISSION

17 CFR Part 270

[Release Nos. 34-95148A; IA-6056A; IC-34635A; File No. S7-15-21]

RIN 3235-AM97

Electronic Submission of Applications for Orders Under the Advisers Act and the Investment Company Act, Confidential Treatment Requests for Filings on Form 13F, and Form ADV-NR; Amendments to Form 13F

AGENCY: Securities and Exchange Commission.

ACTION: Final rule; correction.

SUMMARY: This document makes a technical correction to an amendment concerning the electronic submission of applications for orders under the Investment Company Act, as adopted in Release No. 34-95148 (June 23, 2022) (“Adopting Release”), which was published in the Federal Register on June 30, 2022.

DATES: Effective August 29, 2022.

FOR FURTHER INFORMATION CONTACT: Zeena Abdul-Rahman, Branch Chief; Sara Cortes, Senior Special Counsel; or Brian McLaughlin Johnson, Assistant Director, at (202) 551-6792, Investment Company Regulation Office, Division of Investment Management; or Alexis Palascak, Senior Counsel at (202) 551-6787 or IArules@sec.gov, Investment Adviser Regulation Office, Division of Investment Management, Securities and Exchange Commission, 100 F Street NE, Washington, DC 20549-8549.

SUPPLEMENTARY INFORMATION: We are making a technical amendment to correct § 270.0-2. Specifically, this document amends Instruction 12.b. published in the Adopting Release to correct a sentence reference.

In document FR doc. 2022-13936, which was published in the Federal Register on June 30, 2022, at 87 FR 38943, the following correction is made:

§ 270.0-2 [Corrected]

1. On page 38976, in the second column, Instruction 12.b. for § 270.0-2 is corrected to read as follows: “Removing the sixth sentence in paragraph (b).”

Dated: July 6, 2022.
J. Matthew DeLesDernier,
Assistant Secretary.

[FR Doc. 2022-14683 Filed 7-8-22; 8:45 am]

BILLING CODE 8011-01-P